DEPARTMENT OF TRANSPORTATION

Federal Aviation Administration

14 CFR Part 97

[Docket No. 30593; Amdt. No. 3256]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 25, 2008. The compliance date for each SIAP, associated Takeoff Minimums, and ODP is specified in the amendatory provisions.

The incorporation by reference of certain publications listed in the regulations is approved by the Director of the Federal Register as of February 25, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on Febuary 8, 2008.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 13 MAR 2008

Spokane, WA, Felts Field, RNAV (GPS)-A, Orig-A

Effective 10 APR 2008

Tuscaloosa, AL, Tuscaloosa Regional, RNAV (GPS) RWY 4, Orig

Tuscaloosa, AL, Tuscaloosa Regional, RNAV (GPS) RWY 11, Orig

Tuscaloosa, AL, Tuscaloosa Regional, RNAV (GPS) RWY 22, Orig

Tuscaloosa, AL, Tuscaloosa Regional, RNAV (GPS) RWY 29, Orig

Tuscaloosa, AL, Tuscaloosa Regional, GPS RWY 4, Orig-C, CANCELLED

Tuscaloosa, AL, Tuscaloosa Regional, GPS RWY 22, Orig-C, CANCELLED

Hope, AR, Hope Muni, RNAV (GPS) RWY 4, Orig, CANCELLED

Hope, AR, Hope Muni, VOR/DME RWY 4, Amdt 8, CANCELLED

Globe, AZ, San Carlos Apache, Takeoff Minimums and Obstacle DP, Amdt 2

Bishop, CA, Eastern Sierra Rgnl, RNAV (GPS) Y RWY 12, Orig

Bishop, CA, Eastern Sierra Rgnl, RNAV (GPS) Z RWY 12, Orig

Borrego Springs, CA, Borrego Valley, Takeoff Minimums and Obstacle DP, Amdt 2

Los Angeles, CA, Los Angeles Intl, ILS OR LOC RWY 24L, Amdt 24B

Los Angeles, CA, Los Angeles Intl, ILS OR LOC RWY 24R; ILS RWY 24R (CAT II); ILS RWY 24R, CAT III), Amdt 23B

Los Angeles, CA, Los Angeles Intl, RNAV (GPS) RWY 24L, Orig-A

Los Angeles, CA, Los Angeles Intl, RNAV (GPS) RWY 24R, Orig-A

Palm Springs, CA, Palm Springs Intl, Takeoff Minimums and Obstacle DP, Amdt 5

Sacramento, CA, McClellan Airfield, Takeoff Minimums and Obstacle DP, Amdt 1

Tracy, CA, Tracy Muni, NDB RWY 25, Orig, CANCELLED

Salida, CO, Harriet Alexander Field, RNAV (GPS)-A, Orig

Salida, CO, Harriet Alexander Field, Takeoff Minimums and Obstacle DP, Orig

Lanai City, HI, Lanai, ILS OR LOC RWY 3, Orig-A

Harrisburg, IL, Harrisburg-Raleigh, RNAV (GPS) RWY 6, Orig

Harrisburg, IL, Harrisburg-Raleigh, RNAV (GPS) RWY 24, Amdt 1

Harrisburg, IL, Harrisburg-Raleigh, Takeoff Minimums and Obstacle DP, Orig

Oakland, MD, Garrett County, RNAV (GPS) RWY 9, Orig

Oakland, MD, Garrett County, RNAV (GPS) RWY 27, Orig

Oakland, MD, Garrett County, Takeoff Minimums and Obstacle DP, Orig

Austin, MN, Austin Muni, ILS OR LOC RWY 35, Orig

Austin, MN, Austin Muni, RNAV (GPS) RWY 35, Orig

Cloquet, MN, Cloquet Carlton County, RNAV (GPS) RWY 35, Orig

Cloquet, MN, Cloquet Carlton County, NDB RWY 35, Amdt 4

Marshall, MN, Southwest Minnesota Regional Marshall/Ryan Fld, ILS OR LOC RWY 12, Amdt 2

Marshall, MN, Southwest Minnesota Regional Marshall/Ryan Fld, RNAV (GPS) RWY 12, Orig

Marshall, MN, Southwest Minnesota Regional Marshall/Ryan Fld, VOR RWY 12, Amdt 8

Marshall, MN, Southwest Minnesota Regional Marshall/Ryan Fld, Takeoff Minimums and Obstacle DP, Amdt 2

Billings, MT, Billings Logan Intl, Takeoff Minimums and Obstacle DP, Amdt 5

Syracuse, NY, Syracuse Hancock Intl, ILS OR LOC RWY 10, Amdt 12

Wilson, NC, Wilson Industrial Air Center, RNAV (GPS) RWY 3, Amdt 1

Wilson, NC, Wilson-Industrial Air Center, RNAV (GPS) RWY 9, Amdt 1

Wilson, NC, Wilson-Industrial Air Center, RNAV (GPS) RWY 15, Amdt 1

El Reno, OK, El Reno Regional, RNAV (GPS) RWY 17, Orig

El Reno, OK, El Reno Regional, RNAV (GPS) RWY 35, Orig

El Reno, OK, El Reno Regional, VOR/DME RWY 35, Amdt 2

El Reno, OK, El Reno Regional, Takeoff Minimums and Obstacle DP, Orig

Woodward, OK, West Woodward, NDB RWY 17, Amdt 3, CANCELLED

Clarion, PA, Clarion County, RNAV (GPS) RWY 6, Amdt 1

Clarion, PA, Clarion County, RNAV (GPS) RWY 24, Amdt 1

Grove City, PA, Grove City, VOR-A, Amdt 6

Grove City, PA, Grove City, VOR/DME RNAV OR GPS RWY 10, Amdt 2, CANCELLED

Grove City, PA, Grove City, VOR/DME RNAV OR GPS RWY 28, Amdt 2, CANCELLED

Grove City, PA, Grove City, RNAV (GPS) RWY 10, Orig

Grove City, PA, Grove City, RNAV (GPS) RWY 28, Orig

Charleston, SC, Charleston AFB/Intl, ILS OR LOC RWY 33, Amdt 6

Charleston, SC, Charleston AFB/Intl, ILS OR LOC RWY 15, Amdt 22, ILS RWY 15 (CAT II)

St George, SC, St George, RNAV (GPS) RWY 5, Orig

St George, SC, St George, VOR/DME-A, Amdt 2

St George, SC, St George, Takeoff Minimums and Obstacle DP, Orig

Milbank, SD, Milbank Municipal, Takeoff Minimums and Obstacle DP, Orig

Corpus Christi, TX, Corpus Christi Intl, LOC RWY 31, Amdt 7

Corpus Christi, TX, Corpus Christi Intl, Takeoff Minimums and Obstacle DP, Amdt 1

Laredo, TX, Laredo Intl, VOR OR TACAN RWY 32, Amdt 10A

Tooele, UT, Bolinder Field-Tooele Valley, ILS OR LOC/DME RWY 17, Orig

Tooele, UT, Bolinder Field-Tooele Valley, RNAV (GPS) RWY 17, Amdt 1

Deer Park, WA, Deer Park, RNAV (GPS) RWY 34, Orig

Deer Park, WA, Deer Park, NDB-A, Amdt 2

Charleston, WV, Yeager, ILS OR LOC RWY 5, Amdt 6

Janesville, WI, Southern Wisconsin Regional, ILS OR LOC RWY 32, Amdt 1

Janesville, WI, Southern Wisconsin Regional, Takeoff Minimums and Obstacle DP, Orig

Effective 05 JUN 2008

Glendale, AZ, Glendale Muni, RNAV (GPS) RWY 1, Orig-A

Oakland, CA, Metropolitan Oakland Intl, ILS OR LOC RWY 11, Amdt 5A

Willows, CA, Willows-Glenn County, VOR RWY 34, Amdt 5, CANCELLED

Quakertown, PA, Quakertown, VOR RWY 29, Amdt 1, CANCELLED

Effective 31 JUL 2008

Chico, CA, Chico Muni, VOR RWY 13L, Amdt 9B, CANCELLED

Eureka, CA, Murray Field, VOR/DME RNAV RWY 11, Amdt 6A, CANCELLED

The FAA published an Amendment in Docket No. 30589, Amdt No. 3253 to Part 97 of the Federal Aviation Regulations (Vol 73, FR No. 16, Page 4073 dated Thursday, January 24, 2008) under section 97.33, effective March 13, 2008, which is hereby rescinded as follows:

Seattle, WA, Boeing Field/King County Intl, RNAV (GPS) Z RWY 13R, Orig-A

The FAA published an Amendment in Docket No. 30591, Amdt No. 3254 to Part 97 of the Federal Aviation Regulations (Vol 73, FR No. 27, Page 7463 dated Friday, February 08, 2008) under section 97.29 effective February 14, 2008, which is hereby corrected to read as follows:

Omaha, NE, Eppley Airfield, ILS OR LOC RWY 32L, Amdt 1

Omaha, NE, Eppley Airfield, ILS OR LOC/DME RWY 14L, Amdt 1

Omaha, NE, Eppley Airfield, ILS OR LOC/DME RWY 14R, ILS RWY 14R (CAT II), ILS RWY 14R (CAT III), Amdt 4

Omaha, NE, Eppley Airfield, RNAV (GPS) RWY 14L, Amdt 1

Omaha, NE, Eppley Airfield, Takeoff Minimums and Obstacle DP, Amdt 5

[FR Doc. E8-2861 Filed 2-22-08; 8:45 am]

BILLING CODE 4910-13-P